DEPARTMENT OF COMMERCE

International Trade Administration

[C-489-502]

Circular Welded Carbon Steel Pipes and Tubes From the Republic of Turkey: Final Results and Rescission, in Part, of Countervailing Duty Administrative Review; Calendar Year 2019

AGENCY: Enforcement and Compliance, International Trade Administration, Department of Commerce.

SUMMARY: The Department of Commerce (Commerce) determines that exporters/producers of circular welded carbon steel pipes and tubes from the Republic of Turkey (Turkey) received countervailable subsidies during the period of review (POR), January 1, 2019, through December 31, 2019.

DATES: Applicable November 29, 2021.

FOR FURTHER INFORMATION CONTACT: Jolanta Lawska, AD/CVD Operations, Office III, Enforcement and Compliance, International Trade Administration, U.S. Department of Commerce, 1401 Constitution Avenue NW, Washington, DC 20230; telephone: (202) 482-8362.

SUPPLEMENTARY INFORMATION:

Background

On June 3, 2021, Commerce published the preliminary results of this administrative review.¹ On September 23, 2021, Commerce extended the deadline for the final results to November 30, 2021.² For a summary of events that occurred since the Preliminary Results, see the Issues and Decision Memorandum.³

¹ See Circular Welded Carbon Steel Pipes and Tubes from the Republic of Turkey: Preliminary Results of Countervailing Duty Administrative Review and Intent To Rescind the Review, in Part; Calendar Year 2019, 86 FR 29754 (June 3, 2021) (Preliminary Results), and accompanying Preliminary Decision Memorandum (PDM).

² See Memorandum, “Circular Welded Carbon Steel Pipes and Tubes from Turkey: Extension of Deadline for Final Results of Countervailing Duty Administrative Review,” dated September 23, 2021.

³ See Memorandum, “Issues and Decision Memorandum for the Final Results of Countervailing Duty Administrative Review: Circular Welded Carbon Steel Pipes and Tubes from the Republic of Turkey; 2019,” dated concurrently with, and hereby adopted by, this notice (Issues and Decision Memorandum).

Scope of the Order

The merchandise covered by the order is circular welded carbon steel pipes and tubes from Turkey. For a complete description of the scope of the order, see the accompanying Issues and Decision Memorandum.⁴

⁴ See Issues and Decision Memorandum at 2.

Rescission of Administrative Review, in Part

As noted in the Preliminary Results, based on timely-filed certifications and the results of our query of Custom and Border Protection's (CBP) trade database, as well as the responses received from CBP to our no-shipment inquiries, we indicated our intent to rescind the administrative review with regard to Toscelik Profil ve Sac Endustrisi A.S., Tosyali Dis Ticaret A.S., and Toscelik Metal Ticaret A.S. (collectively, the Tosçelik Companies); Cayirova Boru Sanayi ve Ticaret A.S., Yucel Boru ve Profil Endustrisi A.S., and Yucelboru Ihracat Ithalat ve Pazarlama A.S. (collectively, the Yucel Companies); Cinar Boru Profil Sanayi ve Ticaret Anonim Sirketi (Cinar Boru); Borusan Birlesik Boru Fabrikalari San ve Tic. (Borusan Fabrikalari); Borusan Gemlik Boru Tesisleri A.S. (Borusan Gemlik); Borusan Ihracat Ithalat ve Dagitim A.S. (Borusan Dagitim); Tubeco Pipe and Steel Corporation (Tubeco); and Borusan Lojistik Dagitim Depolama Tasimacilik ve Ticaret A.S. (Borusan Lojistik), in accordance with 19 CFR 351.213(d)(3).⁵ As the facts in this regard are unchanged since the Preliminary Results, we are rescinding the administrative review of the Toscelik Companies, the Yucel Companies, Cinar Boru, Borusan Fabrikalari, Borusan Gemlik, Borusan Dagitim, Tubeco, and Borusan Lojistik pursuant to 19 CFR 351.213(d)(3). For further information, see the Issues and Decision Memorandum.

⁵ See Preliminary Results, 86 FR at 29755, and accompanying PDM at 8-9.

Additionally, subsequent to the Preliminary Results, Commerce issued a supplemental questionnaire ⁶ to the Borusan Companies inquiring about whether “Borusan Mannesmann” and “Borusan Mannesmann Pipe US, Inc.,” two companies for which a review was initiated and included in the Preliminary Results, are U.S. companies. In the Borusan Companies' response,⁷ they stated that “Borusan Mannesmann” is not a legal entity, and that the full name of the company is Borusan Mannesmann Boru Sanayi ve Ticaret A.S., one of the mandatory respondents. Further, they stated that Borusan Mannesmann Pipe US, Inc. is a U.S.-based firm producing oil country tubular goods and line pipe and is not an exporter or producer of subject merchandise. Thus, because “Borusan Mannesmann” is not a legal entity, and because Borusan Mannesmann Pipe US, Inc. is a U.S.-based firm that is not a producer or exporter of the subject merchandise, we are rescinding the review with respect to these companies pursuant to 19 CFR 351.213(d)(3).

⁶ See Commerce's Letter, “Post- Preliminary Supplemental Questionnaire for Borusan Group, Borusan Mannesmann Boru Sanayi ve Ticaret A.S. (BMB), and Borusan Istikbal Ticaret T.A.S. (Istikbal),” dated June 15, 2021.

⁷ See Borusan Companies' Letter, “BMB's Post-Preliminary Supplemental Questionnaire Response,” dated June 22, 2021.

Analysis of Comments Received

All issues raised in interested parties' case briefs are addressed in the Issues and Decision Memorandum. The issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on the comments received, we made no changes to the net subsidy rates calculated for the Borusan Companies.

Methodology

Commerce conducted this review in accordance with section 751(a)(1)(A) of the Tariff Act of 1930, as amended (the Act). For each of the subsidy programs found countervailable during the POR, we determine that there is a subsidy, i.e., a government-provided financial contribution that confers a benefit to the recipient, and that the subsidy is specific.⁸ For a complete description of the methodology underlying all of Commerce's conclusions, see the Issues and Decision Memorandum.

⁸ See sections 771(5)(B) and (D) of the Act regarding financial contribution; section 771(5)(E) of the Act regarding benefit; and section 771(5A) of the Act regarding specificity.

Final Results of the Review

In accordance with section 751(a)(1)(A) of the Act and 19 CFR 351.221(b)(4), for the period January 1, 2019, through December 31, 2019, we determine the net subsidy rates for the producers/exporters under review to be as follows:

Company | Net subsidy rate (percent)
Borusan Holding A.S., Borusan Mannesmann Boru Yatirim Holding, Borusan Mannesmann Boru Sanayi ve Ticaret A.S., and Borusan Istikbal Ticaret T.A.S. (collectively, the Borusan Companies) | 0.83
Borusan Ithicat ve Dagitim A.S | 0.83
Cagil Makina Sanayi ve Ticaret A.S | 0.83
Cimtas Boru Imalatlari ve Ticaret Sirketi | 0.83
Eksen Makina | 0.83
Erbosan Erciyas Boru Sanayi ve Ticaret A.S | 0.83
Guner Eksport | 0.83
Guven Celik Boru San. Ve Tic. Ltd. (also known as Guven Steel Pipe) | 0.83
HDM Celik Boru Sanayi ve Ticaret Ltd. Sti | 0.83
Kale Baglanti Teknolojileri San ve Tic. A.S | 0.83
Kalibre Boru Sanayi ve Ticaret A.S | 0.83
MTS Lojistik ve Tasimacilik Hizmetleri TIC A.S. Istanbul | 0.83
Net Boru Sanayi ve Dis Ticaret Koll. Sti | 0.83
Noksel Celik Boru Sanayi A.S | 0.83
Perfektup Ambalaj San. ve Tic. A.S | 0.83
Schenker Arkas Nakliyat ve Ticaret A.S | 0.83
Umran Celik Boru Sanayii A.S. (also known as Umran Steel Pipe Inc.) | 0.83
Vespro Muhendislik Mimarlik Danismanlik Sanayi ve Ticaret A.S | 0.83

Assessment Rates

Pursuant to 19 CFR 351.212(b)(2), Commerce will determine, and CBP shall assess, countervailing duties on all appropriate entries of subject merchandise in accordance with the final results of this review, for the above-listed companies at the applicable ad valorem assessment rates listed. We intend to issue assessment instructions to CBP 35 days after the date of publication of these final results of review. If a timely summons is filed at the U.S. Court of International Trade, the assessment instructions will direct CBP not to liquidate relevant entries until the time for parties to file a request for a statutory injunction has expired (i.e., within 90 days of publication).

For the companies for which this review is rescinded, Commerce will instruct CBP to assess countervailing duties on all appropriate entries at a rate equal to the cash deposit of estimated countervailing duties required at the time of entry, or withdrawal from warehouse, for consumption, during the POR in accordance with 19 CFR 351.212(c)(1)(i).

Cash Deposit Requirements

In accordance with section 751(a)(2)(C) of the Act, Commerce also intends to instruct CBP to collect cash deposits of estimated countervailing duties in the amounts shown for each of the companies listed above on shipments of subject merchandise entered, or withdrawn from warehouse, for consumption on or after the date of publication of the final results of this administrative review. For all nonreviewed firms subject to the order, we will instruct CBP to continue to collect cash deposits of estimated countervailing duties at the most recent company-specific or all-others rate applicable to the company, as appropriate. These cash deposit requirements, effective upon publication of these final results, shall remain in effect until further notice.

Administrative Protective Order (APO)

This notice also serves as a reminder to parties subject to APO of their responsibility concerning the disposition of proprietary information disclosed under APO in accordance with 19 CFR 351.305(a)(3), which continues to govern business proprietary information in this segment of the proceeding. Timely written notification of the return or destruction of APO materials, or conversion to judicial protective order is hereby requested. Failure to comply with the regulations and the terms of an APO is a sanctionable violation.

We are issuing and publishing these final results in accordance with sections 751(a)(1) and 777(i)(1) of the Act.

Dated: November 23, 2021.
James Maeder,
Deputy Assistant Secretary for Antidumping and Countervailing Duty Operations.

Appendix

I. Summary

II. Background

III. Scope of the Order

IV. Period of Review

V. Non-Shipment Claims and Recission, in Part

VI. Non-Selected Rate

VII. Subsidies Valuation Information

VIII. Analysis of Programs

IX. Analysis of Comments

Comment 1: Whether the Policy Loans from State-Owned Banks to the Steel Industry Program Exists and is Countervailable

X. Recommendation

[FR Doc. 2021-25932 Filed 11-26-21; 8:45 am]

BILLING CODE 3510-DS-P